DEPARTMENT OF JUSTICE

Notice of Lodging of a Settlement Agreement Under the Comprehensive Environmental Response, Compensation, and Liability Act

Notice is hereby given that on April 19, 2007, a proposed Settlement Agreement in In Re Keystone Environmental Services, Inc. Bankruptcy Petition: 04-24279, was lodged with the United States Bankruptcy Court for the Eastern District of Pennsylvania.

In this bankruptcy proceeding brought under Chapter 7 of Title 11 of the United States Code, 11 U.S.C. 101 et seq., the United States filed a general unsecured claim pursuant to the Comprehensive Environmental Response, Compensation and Liability Act (“CERCLA”), 42 U.S.C. 9601 et seq., for approximately $2 million in unreimbursed environmental response costs incurred by the United States at the Malvern Superfund Site, located in Chester County, Pennsylvania, and at the Spectron Superfund Site, located in Cecil County, Maryland. Under the Settlement Agreement, the Debtor will make a payment of $440,000, of which the United States will receive $233,200. The remainder will be paid to the private parties that are performing the remedial work at these Superfund sites.

The Department of Justice will receive, for a period of thirty (30) days from the date of this publication, comments relating to the Settlement Agreement. Comments should be addressed to the assistant Attorney General, Environment and Natural Resources Division, and either e-mailed to pubcomment-ees.enrd@usdoj.gov, or mailed to: P.O. Box 7611, U.S. Department of Justice, Washington, DC 20044-7611, and should refer to: In Re Keystone Environmental Services, Inc., D.J. Ref. 90-11-3-1731/7.

The Settlement Agreement may be examined at U.S. EPA Region III, Office of Regional Counsel, 1650 Arch Street, Philadelphia, PA 19103-2029, c/o Joan A. Johnson or Humane Zia. During the public comment period, the Settlement Agreement may also be examined on the following Department of Justice Web site: http://www.usdoj.gov/enrd/Consent_Decrees.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.75 (25 cents per page reproduction cost) payable to the U.S. Treasury or, if by e-mail or fax, forward a check in that amount to the Consent Decree Library at the stated address.

Robert Brook,
Assistant Chief, Environmental Enforcement Section, Environment and Natural Resources Division.

[FR Doc. 07-2410 Filed 5-16-07; 8:45 am]

BILLING CODE 4410-15-M